DEPARTMENT OF TRANSPORTATION

Federal Aviation Administration

14 CFR Part 39

[Docket No. FAA-2013-0400; Directorate Identifier 2009-SW-48-AD; Amendment 39-17579; AD 2013-18-06]

RIN 2120-AA64

Airworthiness Directives; Bell Helicopter Textron Canada Limited (Bell) Helicopters

AGENCY: Federal Aviation Administration (FAA), DOT.

ACTION: Final rule.

SUMMARY: We are adopting a new airworthiness directive (AD) for Bell Model 206A, 206B, 206L, 206L-1, 206L-3, 206L-4, 222, 222B, 222U, 230, 407, 427, and 430 helicopters. This AD requires inspecting each bearing to determine if it has been properly staked and replacing the bearing or assembly if it has not been properly staked. This AD was prompted by bearings not being properly staked and migrating out of their proper position, which may limit the functionality of the affected part. The actions of this AD are intended to prevent failure of a bearing and the assembly in which it is installed and subsequent loss of control of the helicopter.

DATES: This AD is effective October 17, 2013.

ADDRESSES: For service information identified in this AD, contact Bell Helicopter Textron Canada Limited, 12,800 Rue de l'Avenir, Mirabel, Quebec J7J1R4, telephone (450) 437-2862 or (800) 363-8023, fax (450) 433-0272, or at http://www.bellcustomer.com/files/. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Sharon Miles, Aviation Safety Engineer, Regulations and Policy Group, Rotorcraft Directorate, FAA, 2601 Meacham Blvd., Fort Worth, Texas 76137; telephone (817) 222-5110; email sharon.y.miles@faa.gov.

SUPPLEMENTARY INFORMATION:

Discussion

On May 13, 2013, at 78 FR 27869, the Federal Register published our notice of proposed rulemaking (NPRM), which proposed to amend 14 CFR part 39 to include an AD that would apply to Bell Model 206A, 206B, 206L, 206L-1, 206L-3, 206L-4, 222, 222B, 222U, 230, 407, 427, and 430 helicopters. The NPRM proposed using a 10X or higher power magnifying glass or a boroscope to inspect each bearing in each affected part to determine if each bearing had been properly staked. For a part that could not be accessed to determine if the bearing is properly staked, the NPRM proposed removing the part from the helicopter to inspect it. The NPRM proposed replacing the bearing or assembly if it was not properly staked. The proposed requirements were intended to prevent failure of a bearing and the assembly in which it is installed and subsequent loss of control of the helicopter.

The NPRM was prompted by AD No. CF-2009-32, dated July 24, 2009, issued by Transport Canada Civil Aviation (TCCA), which is the aviation authority for Canada, to correct an unsafe condition for the specified Bell model helicopters. TCCA advises that some bearings may not have been staked as required, which may limit the proper functioning of the affected part. Bell, the helicopter manufacturer, received two reports stating that a bearing migrated out of a flight control lever. Investigation revealed that, although the inspection witness mark was applied to the part, the bearing had not been staked during manufacturing. Affected parts were associated with a single Bell supplier. Review of the supplier's manufacturing and quality process indicates inspection of additional parts is necessary.

Comments

We gave the public the opportunity to participate in developing this AD, but we did not receive any comments on the NPRM (78 FR 27869, May 13, 2013).

FAA's Determination

These helicopters have been approved by the aviation authority of Canada and are approved for operation in the United States. Pursuant to our bilateral agreement with Canada, TCCA has notified us of the unsafe condition described in its AD. We are issuing this AD because we evaluated all information provided by TCCA and determined the unsafe condition exists and is likely to exist or develop on other helicopters of these same type designs and that air safety and the public interest require adopting the AD requirements as proposed.

Related Service Information

Bell has issued Alert Service Bulletin (ASB) No. 206-09-122 for Model 206A/B series; No. 206L-09-156 for Model 206L series; No. 222-09-107 for Model 222 and 222B; No. 222U-09-78 for Model 222U; No. 230-09-39 for Model 230; No. 407-09-88 for Model 407; No. 427-09-25 for Model 427; and No. 430-09-42, for Model 430, all dated April 7, 2009. The ASBs specify inspecting for parts that contain bearings that have not been staked.

Costs of Compliance

We estimate that this AD will affect 2,601 helicopters of U.S. registry. Based on an average labor rate of $85 per work-hour, we estimate that operators may incur the following costs in order to comply with this AD. It will take about 1 to 5 work-hours per helicopter, depending on the model, to inspect for properly staked bearings. Replacing a bearing will require about 2 work-hours and will cost $3,306 for required parts. Based on an average inspection time of 2 work-hours, we estimate the cost of this AD to inspect the helicopters will be $170 per helicopter and $442,170 for the U.S. operator fleet. Replacing a bearing will cost $3,476 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-18-06 Bell Helicopter Textron Canada Limited: Amendment 39-17579; Docket No. FAA-2013-0400; Directorate Identifier 2009-SW-48-AD.

(a) Applicability

This AD applies to Model 206A, 206B, 206L, 206L-1, 206L-3, 206L-4, 222, 222B, 222U, 230, 407, 427, and 430 helicopters as follows, certificated in any category.

(1) Model 206A, Model 206B helicopters converted from Model 206A, and Model 206B with Bellcrank Assembly, part-number (P/N) 206-001-526-001 or 206-001-538-009; Idler Link Assembly, P/N 206-010-336-109; or Link Assembly, P/N 206-031-589-001, installed.

(2) Model 206L, Model 206L-1, Model 206L-3, and Model 206L-4 with Idler Assembly, P/N 206-001-549-101; Bellcrank Assembly, P/N 206-001-552-001; or Link Assembly, P/N 206-010-336-109, installed.

(3) Model 222 and Model 222B with

(i) Cyclic Link Assembly, P/N 222-010-419-110; or

(ii) Bellcrank Assembly Directional Controls, P/N 222-001-734-001 or 222-001-736-005, installed.

(4) Model 222U with

(i) Cyclic Link Assembly, P/N 222-010-419-110; or

(ii) Bellcrank Assembly Directional Controls, P/N 222-001-734-001 or 222-001-736-005, installed.

(5) Model 230 with

(i) Fitting Assembly Engine Bipod Mount, P/N 230-060-113-101, 230-060-113-102, 230-060-114-101, or 230-060-114-102; Cyclic Link Assembly P/N 222-010-419-110; or

(ii) Bellcrank Assembly Directional Controls, P/N 222-001-734-001, or 222-001-736-005, installed.

(6) Model 407 with

(i) Bearing and Liner Assembly, P/N 406-010-417-101; Cyclic Mixer Follower Assembly, P/N 407-001-325-101; Bellcrank Assembly, P/N 407-001-524-105, 407-001-524-109, 407-001-526-105, 407-001-526-109, 407-001-528-101, or 407-001-528-105; or

(ii) Beam Assembly, P/N 407-001-723-101, installed.

(7) Model 427 with Swashplate Lateral Link Assembly (upper and lower bearing), P/N 427-001-021-101; Swashplate Longitudinal Link Assembly (upper and lower bearing), P/N 427-001-022-101; Transmission Mounted Longitudinal Bellcrank Assembly (pivot bearing), P/N 427-001-521-105/-109; Transmission Mounted Lateral Bellcrank Assembly (pivot bearing), P/N 427-001-520-109/-113; or Bearing and Liner (lower drive link bearing), P/N 406-010-417-109, installed.

(8) Model 427 with Tail Rotor Actuator Output Idler, P/N 427-001-723-101, installed.

(9) Model 430 with

(i) Fitting Assembly Engine Bipod Mount, P/N 230-060-113-101, 230-060-113-102, 230-060-114-101, or 230-060-114-102; Bearing Assembly M/R Rotating Controls, P/N 430-010-449-101; Rod End Assembly Lift link, P/N 430-010-204-101 or 430-010-204-103, or

(ii) Bellcrank Assembly Directional Controls, P/N 222-001-734-001, or 222-001-736-005, installed.

(b) Unsafe Condition

This AD defines the unsafe condition as bearings that may not have been staked as required and may migrate out of their proper position and limit the functionality of the affected part. This condition could result in failure of a bearing and the lever assembly in which it is installed and subsequent loss of control of the helicopter.

(c) Effective Date

This AD becomes effective October 17, 2013.

(d) Compliance

You are responsible for performing each action required by this AD within the specified compliance time unless it has already been accomplished prior to that time.

(e) Required Actions

(1) Perform each action required by this AD within the compliance time for each part listed in the applicability paragraph of this AD as follows: (a)(1), (a)(2), (a)(6)(i), (a)(7), and (a)(8), within 10 hours time-in-service (TIS) or 30 days, whichever occurs first; (a)(3)(i), (a)(4)(i), (a)(5)(i), and (a)(9)(i), within 5 hours TIS or 30 days, whichever occurs first; (a)(3)(ii), (a)(4)(ii), (a)(5)(ii), and (a)(9)(ii) within 150 hours TIS or 12 months, whichever occurs first; and (a)(6)(ii) within 300 hours TIS or 12 months, whichever occurs first.

(2) Using a 10X or higher power magnifying glass or using a boroscope, inspect each bearing and determine if the bearing has been properly staked for each part that contains a part serial number with a prefix of either “TI” or “TIFS.”

(i) If a part does not contain a serial number, inspect the bearing of that part even if that part contains a supplier marking.

(ii) If you cannot access the bearing while the part is installed on the helicopter to make a determination as to whether the bearing in the part is properly staked, remove the part and inspect the bearing using a 10X or higher power magnifying glass or using a boroscope.

(iii) If you find a part that is not properly staked, replace the bearing or the assembly with an airworthy bearing or assembly before further flight.

(f) Alternative Methods of Compliance (AMOCs)

(1) The Manager, Safety Management Group, FAA, may approve AMOCs for this AD. Send your proposal to Sharon Miles, ASW-111, Aviation Safety Engineer, Rotorcraft Directorate, Regulations and Guidance Group, 2601 Meacham Blvd., Fort Worth, Texas 76137, telephone (817) 222-5110, email sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Bell Alert Service Bulletin (ASB) No. 206-09-122 for Models 206A and 206B; No. 206L-09-156 for Models 206L, 206L-1, 206L-3, and 206L-4; No. 222-09-107 for Models 222 and 222B; No. 222U-09-78 for Model 222U; No. 230-09-39 for Model 230; No. 407-09-88 for Model 407; No. 427-09-25 for Model 427; and No. 430-09-42 for Model 430, all dated April 7, 2009, which are not incorporated by reference, contain additional information about the subject of this AD. For service information identified in this AD, contact Bell Helicopter Textron Canada Limited, 12,800 Rue de l'Avenir, Mirabel, Quebec J7J1R4, telephone (450) 437-2862 or (800) 363-8023, fax (450) 433-0272, or at http://www.bellcustomer.com/files/. You may review the referenced service information at the FAA, Office of the Regional Counsel, Southwest Region, 2601 Meacham Blvd., Room 663, Fort Worth, Texas 76137.

(2) The subject of this AD is addressed in Transport Canada Civil Aviation AD No. CF-2009-32, dated July 24, 2009, which may be reviewed in the AD docket on the Internet at http://www.regulations.gov.

(h) Subject

Joint Aircraft System/Component (JASC) Code: 6700 Rotorcraft Flight Controls and 6710 Main Rotor Control.

Issued in Fort Worth, Texas, on August 27, 2013.
Kim Smith,
Directorate Manager, Rotorcraft Directorate, Aircraft Certification Service.

[FR Doc. 2013-21716 Filed 9-11-13; 8:45 am]

BILLING CODE 4910-13-P